DEPARTMENT OF THE INTERIOR

Bureau of Indian Affairs

[DR.5B811.IA000913]

Renewal of Agency Information Collection for Tribal Energy Resource Agreements

AGENCY: Bureau of Indian Affairs, Interior.

ACTION: Notice of submission to OMB.

SUMMARY: In compliance with the Paperwork Reduction Act of 1995, the Assistant Secretary—Indian Affairs is submitting to the Office of Management and Budget (OMB) a request for approval for the collection of information titled “25 CFR 224, Tribal Energy Resource Agreements” (TERAs) under the Office of Indian Energy and Economic Development Office (IEED). This information collection is currently authorized by OMB Control Number 1076-0167, which expires March 31, 2015.

DATES: Interested persons are invited to submit comments on or before April 23, 2015.

ADDRESSES: You may submit comments on the information collection to the Desk Officer for the Department of the Interior at the Office of Management and Budget, by facsimile to (202) 395-5806 or you may send an email to: OIRA_Submission@omb.eop.gov. Please send a copy of your comments to Mr. Stephen Manydeeds, Chief, Division of Energy and Mineral Development, 13922 Denver West Parkway, Suite 200, Lakewood, CO 80401; facsimile: (303) 969-5273; email: Stephen.Manydeeds@bia.gov.

FOR FURTHER INFORMATION CONTACT: Mr. Stephen Manydeeds, telephone: (720) 407-0600. You may review the information collection request online at http://www.reginfo.gov. Follow the instructions to review Department of the Interior collections under review by OMB.

SUPPLEMENTARY INFORMATION:

I. Abstract

The Energy Policy Act of 2005, 25 U.S.C. 3504 authorizes the Secretary of the Interior to approve individual Tribal Energy Resource Agreements (TERAs). The intent of these agreements is to promote tribal oversight and management of energy resource development on tribal lands and further the goal of Indian self-determination. A TERA offers a tribe an alternative for developing energy-related business agreements and awarding leases and granting rights-of-way for energy facilities without having to obtain further approval from the Secretary.

This information collection conducted under TERA regulations at 25 CFR 224 will allow IEED to determine the capacity of tribes to manage the development of energy resources on tribal lands. This information collection:

• Enables IEED to engage in a consultation process with tribes that is designed to foster optimal pre-planning of development proposals and speed up the review and approval process for TERA agreements;

• Provides wide public notice and opportunity for review of TERA agreements by the public, industry, and government agencies;

• Ensures that the public has an avenue for review of the performance of tribes in implementing a TERA;

• Creates a process for preventing damage to sensitive resources as well as ensuring that the public has fully communicated with the tribe in the petition process;

• Ensures that a tribe is fully aware of any attempt by the Department of the Interior to resume management authority over energy resources on tribal lands; and

• Ensures that the tribal government fully endorses any relinquishment of a TERA.

II. Request for Comments

On January 13, 2015, the BIA published a notice announcing the renewal of this information collection and provided a 60-day comment period in the Federal Register (80 FR 1662). There were no comments received in response to this notice.

The BIA requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personally identifiable information in your comment, you should be aware that your entire comment—including your personal identifying information—may be made publicly available at any time. While you can ask us in your comment to withhold your personal identifying information from public review, we cannot guarantee that we will be able to do so.

III. Data

OMB Control Number: 1076-0167.

Title: 25 CFR 224, Tribal Energy Resource Agreements.

Brief Description of Collection: Submission of this information is required for Indian tribes to apply for, implement, reassume, or rescind a TERA that has been entered into in accordance with the Energy Policy Act of 2005 and 25 CFR 224. This collection also requires the tribe to notify the public of certain actions. A response is required to obtain a benefit.

Type of Review: Extension without change of currently approved collection.

Respondents: Federally recognized Indian tribes.

Number of Respondents: 14.

Frequency of Response: On occasion.

Estimated Time per Response: Ranges from 32 hours to 1,080 hours.

Estimated Total Annual Hour Burden: 10,752 hours.

Estimated Total Non-hour Cost Burden: $48,200.

Dated: March 18, 2015.
Elizabeth K. Appel,
Director, Office of Regulatory Affairs and Collaborative Action—Indian Affairs.

[FR Doc. 2015-06670 Filed 3-23-15; 8:45 am]

BILLING CODE 4310-G1-P